DEPARTMENT OF LABOR

Mine Safety and Health Administration

[OMB Control No. 1219-0154]

Proposed Extension of Information Collection: Performance Reports for MSHA Grants

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection regarding the extension of Performance Reports for MSHA Grants.

DATES: All comments must be received on or before March 25, 2024.

ADDRESSES: Comments concerning the information collection requirements of this notice may be sent by any of the methods listed below. Please note that late, comments received after the deadline will not be considered.

• Federal E-Rulemaking Portal: http://www.regulations.gov. Follow the on-line instructions for submitting comments for docket number MSHA-2023-0021.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977, as amended (Mine Act), 30 U.S.C. 813(h), authorizes MSHA to collect information necessary to carry out its duty in protecting the safety and health of miners. Further, section 101(a) of the Mine Act, 30 U.S.C. 811(a), authorizes the Secretary of Labor (Secretary) to develop, promulgate, and revise as may be appropriate, improved mandatory health or safety standards for the protection of life and prevention of injuries in coal and metal and nonmetal mines.

MSHA works to prevent death, illness, and injury from mining and to promote safe and healthful workplaces for U.S. miners. Section 115 of the Mine Act, 30 U.S.C. 825, requires MSHA to approve mine operators' health and safety training programs for miners. MSHA administers two grant programs: State Grants and Brookwood-Sago Mine Safety Grants. The grant programs provide training for individuals, miners, employers, and contractors in the recognition, avoidance, and prevention of unsafe and unhealthful working conditions in accordance with section 503 of the Mine Act, 30 U.S.C. 953, and section 14 of the Mine Improvement and New Emergency Response Act of 2006 (MINER Act), 30 U.S.C. 965.

State Grants

Under section 503 of the Mine Act, 30 U.S.C. 953, the Secretary may award grants to States to assist in developing and enforcing State mine health and safety laws and regulations, to improve State workers' compensation and mining occupational disease laws and programs, and to improve health and safety conditions in the Nation's mines through Federal-State coordination and cooperation. Any State in which mining takes place may apply for the State Grants. 30 U.S.C. 953(g) requires that MSHA may fund up to 80 percent of the State Grants activities and a Grant recipient must provide matching funds of no less than 20 percent of the total costs. This Grant program supports federally mandated training of miners and mine operators working at surface and underground coal, metal, and nonmetal mines. 30 U.S.C. 953(e) of the Mine Act also allows the program to train State inspectors.

MSHA recognizes that State training programs are a key source of mine safety and health training and education for individuals who work or will work at mines. MSHA encourages State training programs to prioritize health and safety training for small mining operations and underserved mines and miners within the mining industry, and to prioritize diversity, equity, inclusion, and accessibility. MSHA has recently expanded the priority to include underserved operators and miners including limited English proficient (LEP) and low literacy individuals.

MSHA supports programs that emphasize training on miners' statutory rights, including the right to be provided a safe working environment, to refuse an unsafe task, and to have a voice in the safety and health conditions at the mine. In particular, MSHA encourages grant recipients to address, in their training and education programs, occupational health hazards caused by exposures to respirable coal mine dust and respirable crystalline silica, powered haulage and mobile equipment safety, mine emergency preparedness, mine rescue, electrical safety, contract and customer truck drivers, improving training for new and inexperienced miners, managers and supervisors performing mining tasks, pillar safety for underground mines, and preventing falls from heights.

Brookwood-Sago Mine Safety Grants

Section 14 of the MINER Act, 30 U.S.C. 965, established the Brookwood-Sago Mine Safety Grants. This competitive grant program provides funding for education and training programs to better identify, avoid, and prevent unsafe working conditions in and around mines. Grantees can use these funds to establish and implement education and training programs or to create training materials and programs on MSHA-identified safety priorities. Funds can also be used to develop and implement training and related materials for mine emergency preparedness as well as for the prevention of accidents in underground mines.

MSHA expects Brookwood-Sago Mine Safety grantees to develop training or educational materials and/or provide mine safety training or educational programs, to recruit mine operators and miners to participate in training, and to conduct and evaluate the training program. 30 U.S.C. 965 mandates that the Secretary must emphasize programs and materials that target smaller mines, including training mine operators and miners about new MSHA standards, high risk activities, or hazards. The Brookwood-Sago Mine Safety Grants give priority to the funding of pilot and demonstration projects that will provide opportunities for broad applicability for mine safety. Special attention will also be given to programs and materials that serve underserved mines and miners within the mining industry, and that prioritize diversity, equity, inclusion, and accessibility.

30 U.S.C. 965 also requires the Brookwood-Sago Mine Safety Grants to conduct follow-up evaluations with the people who received the provided training to measure how the training promotes the DOL's strategic goal to “Ensure Safe Jobs, Essential Protections, and Fair Workplaces,” and MSHA's goal to “prevent fatalities, disease, and injury from mining, and secure safe and healthful working conditions for America's miners.” Evaluations will focus on determining how effective the subject training was in either reducing hazards, improving miners' skills, or in improving safety and health conditions in mines. Grantees must also fully cooperate with MSHA evaluators, which may include providing MSHA evaluators relevant data, educational or training materials, or information on training methods and equipment.

Under both State Grants and Brookwood-Sago Mine Safety Grants programs, each grantee is required by U.S. DOL regulations to submit quarterly performance reports for the preceding 3-month period; and a final report no later than 90 days after the end of the grant period. Grantees of State Grants program have an additional requirement of submitting MSHA Form 5000-50, State Grants Progress Report, on a quarterly basis.

The required content of each report is specified in the funding opportunity announcement (FOA) of each grant program.

(1) Performance Project Reports: A grantee submits a quarterly performance project report to MSHA no later than 30 days after the deadlines. The performance report needs to contain a narrative assessment of performance under the grants and to include both quantitative and qualitative information. The narrative assessment includes the summary of progress over the previous 3 months, submitted in an open free format of the grantee's choice. Specifically, the narrative reports contain the following information:

(a) A comparison of actual accomplishments to the objectives established for the period.

(b) Reasons for any objectives that are not met.

(c) A description of any significant developments or problems affecting the grantee's ability to accomplish the work.

(d) An evaluation of the impact or results of the program's activities.

(e) An explanation of current grant progress against the overall grant goals.

In addition, the grantees are required to submit quarterly financial reports on the status of all funds awarded, matching funds, and, if applicable, program income received and expended, during the funding period.

Between reporting dates, the grantee also needs to provide interim reports to inform MSHA of significant developments or problems affecting the organization's ability to accomplish the work specified in the FOA.

(2) Final Reports: At the end of the grant period, each grantee is required to provide a final close-out financial report, a final performance report, and an evaluation report. The final report is due no later than 90 days after the end of the 12-month performance period.

(3) MSHA Form 5000-50, State Grants Progress Report (State Grants Only): State Grants recipients are also required to submit MSHA Form 5000-50 in their quarterly reports to MSHA. This form is used only by the State Grants program. This form consists of a technical progress report with quantitative performance information. Recipients of the State Grants are required to submit a final MSHA 5000-50 form at the end of the 12-month performance period.

II. Desired Focus of Comments

MSHA is soliciting comments concerning the information collection related to Performance Reports for MSHA Grants. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at DOL-MSHA, 201 12th Street South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION section of this notice.

III. Current Actions

This information collection request concerns provisions for Performance Reports for MSHA Grants, specifically, including an extension of Performance Project Reports and Final Reports submitted by the recipients of both State and Brookwood-Sago Mine Safety Grants, and MSHA Form 5000-50 used for the State Grants. MSHA has updated the data with respect to the number of respondents, responses, burden hours, and burden costs supporting this information collection request from the previous information collection request.

Type of Review: Extension, without change, of a currently approved collection.

Agency: Mine Safety and Health Administration.

OMB Number: 1219-0154.

Affected Public: Business or other for-profits.

Number of Annual Respondents: 76.

Frequency: Quarterly and annually.

Number of Annual Responses: 380.

Annual Burden Hours: 850 hours.

Annual Respondent or Recordkeeper Cost: $0.

MSHA Forms: MSHA Performance Report Narratives; MSHA Form 5000-50, MSHA State Grants Progress Report.

Comments submitted in response to this notice will be summarized and included in the request for Office of Management and Budget approval of the proposed information collection request; they will become a matter of public record and will be available at https://www.reginfo.gov.

Song-ae Aromie Noe,
Certifying Officer, Mine Safety and Health Administration.

[FR Doc. 2024-01284 Filed 1-23-24; 8:45 am]

BILLING CODE 4520-43-P